DEPARTMENT OF THE INTERIOR

Bureau of Reclamation

Glen Canyon Dam Adaptive Management Work Group (AMWG); Notice of Meeting

AGENCY: Bureau of Reclamation, Interior.

ACTION: Notice of conference call and public meetings.

SUMMARY: The Adaptive Management Program (AMP) was implemented as a result of the Record of Decision on the Operation of Glen Canyon Dam Final Environmental Impact Statement to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (AMWG), a technical work group (TWG), a monitoring and research center, and independent review panels. The TWG is a subcommittee of the AMWG and provides technical advice and information for the AMWG to act upon.

DATES: The AMWG will conduct the following conference call: Friday, August 8, 2003. The conference call will begin at 9 a.m. and conclude at 11 a.m. Mountain Time.

Agenda: The purpose of the conference call will be to seek approval from the AMWG to modify the ongoing mechanical removal of non-native fish in Grand Canyon during the remainder of Federal fiscal year 2003. The proposed modification, which would involve moving the mechanical removal effort further downstream of the Little Colorado River, was stimulated by a greater than expected success in these efforts. The involved Federal action agencies would like to initiate the change in the proposed action beginning in August and therefore need to do so prior to the AMWG meeting scheduled for August 13-14, 2003.

To Register for the conference call, please contact Linda Whetton at (801) 524-3880 at least two (2) days prior to the call. You will be given the phone number and password at that time.

Date and Location: The AMWG will conduct the following public meeting: Phoenix, Arizona—August 13 to August 14, 2003. The meeting will begin at 9:30 a.m. and conclude at 5 p.m. on the first day and will begin at 8 a.m. and conclude at noon on the second day. The meeting will be held at the Bureau of Indian Affairs—Western Regional Office, 2 Arizona Center, 400 N. 5th Street, Conference Rooms A and B (12th Floor), Phoenix, Arizona.

Agenda: The purpose of the meeting will be to discuss the FY 2004 budget, temperature control device risk assessment, proposed modification of non-native fish mechanical removal, feasibility report on humpback chub augmentation, experimental flows, basin hydrology, environmental compliance, and other administrative and resource issues pertaining to the AMP. In addition, the Humpback Chub Ad Hoc Group will present their Final Report. The Ad Hoc Committee on What's In/Out of the AMP (AHCIO) and will provide an update and the Strategic Plan Ad Hoc Committee will provide comments to the AMWG relative to their review of the Draft Tribal Consultation Plan.

Date and Location: The TWG will conduct the following public meeting: Phoenix, Arizona “ October 1 to October 2, 2003. The meeting will begin at 9:30 a.m. and conclude at 5 p.m. on the first day and will begin at 8 a.m. and conclude at noon on the second day. The meeting will be held at the Bureau of Indian Affairs—Western Regional Office, 2 Arizona Center, 400 N. 5th Street, Conference Rooms A and B (12th Floor), Phoenix, Arizona.

Agenda: The purpose of the meeting will be to discuss the BioWest data for downstream of Diamond Creek, multi-attribute tradeoff process, status report on mechanical removal work, vegetation mapping by GCMRC, non-native fish control, tribal consultation plan, and re-initiation of the SCORE (The State of Natural and Cultural Resources in the Colorado River Ecosystem) Report, ad hoc group updates, basin hydrology, environmental compliance, and other administrative and resource issues pertaining to the AMP.

To allow full consideration of information by the AMWG or TWG members, written notice must be provided to Dennis Kubly, Bureau of Reclamation, Upper Colorado Regional Office, 125 South State Street, Room 6107, Salt Lake City, Utah, 84138; telephone (801) 524-3715; faxogram (801) 524-3858; e-mail at dkubly@uc.usbr.gov (5) days prior to the meeting. Any written comments received will be provided to the AMWG and TWG members prior to the meeting.

FOR FURTHER INFORMATION CONTACT: Dennis Kubly, telephone (801) 524-3715; faxogram (801) 524-3858; or via e-mail at dkubly@uc.usbr.gov.

Dated: July 14, 2003.
Dennis Kubly,
Chief, Adaptive Management Group, Environmental Resources Division, Upper Colorado Regional Office.

[FR Doc. 03-19200 Filed 7-28-03; 8:45 am]

BILLING CODE 4310-MN-P